DEPARTMENT OF TRANSPORTATION

Federal Aviation Administration

Notice of Intent To Rule on Request To Release Airport Property at Ellington Field, Houston, TX

AGENCY: Federal Aviation Administration (FAA), DOT.

ACTION: Notice of request to release airport property.

SUMMARY: The FAA proposes to rule and invites public comment on the release of land at the Ellington Field under the provisions of Section 125 of the Wendell H. Ford Aviation Investment Reform Act for the 21st Century (AIR 21).

DATES: Comments must be received on or before January 20, 2009.

ADDRESSES: Comments on this application may be mailed or delivered to the following address: Mr. Mike Nicely, Manager, Federal Aviation Administration, Southwest Region, Airports Division, Texas Airports Development Office, ASW-650, Fort Worth, Texas 76193-0650.

In addition, one copy of any comments submitted to the FAA must be mailed or delivered to Mr. Richard Vacar, Director of Aviation, at the following address: City of Houston, Department of Aviation, 16930 JFK Blvd., Houston, Texas 77032.

FOR FURTHER INFORMATION CONTACT: Mr. Ben Guttery, Senior Program Manager, Federal Aviation Administration, Texas Airports Development Office, ASW-650, 2601 Meacham Boulevard, Fort Worth, Texas 76193-0650, Telephone: (817) 222-5614, E-mail: ben.guttery@faa.gov, Fax: (817) 222-5989.

The request to release property may be reviewed in person at this same location.

SUPPLEMENTARY INFORMATION: The FAA invites public comment on the request to release property at Ellington Field under the provisions of the AIR 21.

On December 9, 2008, the FAA determined that the request to release property at Ellington Field, submitted by the City, met the procedural requirements of the Federal Aviation Regulations, Part 155.

The following is a brief overview of the request: The City of Houston requests the release of 12.00 acres of non-aeronautical use airport property. The land was part of two General Services Administration deeds of property and a sale to the City in 1984. The funds generated by the release will be used for upgrading, maintenance, operation and development of the airport.

Any person may inspect the request in person at the FAA Office listed above under FOR FURTHER INFORMATION CONTACT.

In addition, any person may, upon request, inspect the application, notice and other documents relevant to the application in person at Ellington Field in Houston, Texas, telephone number 713-847-4200.

Issued in Fort Worth, Texas on December 9, 2008.
Kelvin L. Solco,
Manager, Airports Division.

[FR Doc. E8-30006 Filed 12-17-08; 8:45 am]

BILLING CODE 4910-13-M